DEPARTMENT OF TRANSPORTATION

Federal Aviation Administration

Notice of Intent To Request Review and Approval From the Office of Management and Budget (OMB) of a Proposed Public Collection of Information

AGENCY: Federal Aviation Administration (FAA), DOT.

ACTION: Notice.

SUMMARY: In compliance with the Paperwork Reduction Act (44 U.S.C. 3501 et seq.), This notice announces that the FAA is Submitted a proposed information collection request to the Office of Management and Budget (OMB) for review.

DATES: Comments must be received on or before October 20, 2000.

ADDRESSES: Comments may be mailed or delivered to the FAA at the following address: Ms. Judy Street, APF-100, 800 Independence Avenue, SW., Washington DC 20591.

FOR FURTHER INFORMATION CONTACT: Ms. Judy Street at the above address or on (202) 267-9895.

SUPPLEMENTARY INFORMATION: Title: Laser Operations in the Navigable Airspace (Draft Advisory Circular).

Abstract: Laser operations are a major safety concern to the FAA because laser emissions that encounter and or enter the eye have the potential of incapacitating the pilot or crewmember. In addition, laser light operations have been found to create glare, flashblindness, and after image effects, all of which may interrupt pilot or crewmember activities. The FAA requests the information in the interest of aviation safety to protect aircraft operations from the potential hazardous affect of laser emission. The information collected is reviewed for its impact on aviation in the vicinity of the laser activity. Upon completion of the review, the FAA issues a letter of determination to the respondent concerning their request.

Burden on public: It is estimated that approximately 20 respondents will submit approximately 200 requests (the Notice Form and the Configuration Form) to the FAA. First-time submitters could take up to 10 hours to prepare the documentation. Subsequent submissions from the same party for the same system may require only about 20 minutes. The total burden on the public is estimated to be 2,200 hours annually.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology.

Public protection clause: An agency may not conduct or sponsor, and a person is not required to respond to, a collection of information unless it displays a currently valid OMB control number. Once a control number is assigned, it will be published.

Issued in Washington, DC, on August 14, 2000.
Steve Hopkins,
Manager, Standards and Information Division, APF-100.

[FR Doc. 00-21131 Filed 8-18-00; 8:45 am]

BILLING CODE 4910-13-M